DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before May 22, 2009.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations, and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Petitioner: Rosebud Mining Company, P.O. Box 1025, Northern Cambria, Pennsylvania 15714.

Docket Number: M-2009-001-C.

Mines: Clementine Mine, MSHA I.D. No. 36-08862, Darmac No. 2 Mine, MSHA I.D. No. 36-08135, Dutch Run Mine, MSHA I.D. No. 36-08701, Logansport Mine, MSHA I.D. No. 36-08841, Tracy Lynne Mine, MSHA I.D. No. 36-08603, located in Armstrong County, Pennsylvania; Beaver Valley Mine, MSHA I.D. No. 36-08725, located in Beaver County, Pennsylvania; Brush Valley Mine, MSHA I.D. No. 36-09437, Lowry Mine, MSHA I.D. No. 36-09287, Tom's Run Mine, MSHA I.D. No. 36-08525, Heilwood Mine, MSHA I.D. No. 36-09407, located in Indiana County, Pennsylvania; Little Toby Mine, MSHA I.D. No. 36-08847, located in Elk County, Pennsylvania; Mine 78, MSHA I.D. No. 36-09371, located in Somerset County, Pennsylvania; Penfield Mine, MSHA I.D. No. 36-09355, located in Clearfield County, Pennsylvania; and Twin Rocks Mine, MSHA I.D. No. 36-08836, located in Cambria County, Pennsylvania.

Regulation Affected: 30 CFR 75.500(d) (Permissible electric equipment).

Modification Request: The petitioner requests a modification of the existing standard to permit an alternative method of compliance to permit the use of battery-powered non-permissible surveying equipment, including, but not limited to, portable battery operated mine transits, total station surveying equipment, distance meters, and laptop computers in or inby the last open crosscut. The petitioner proposes to: (1) Use non-permissible electronic surveying equipment in or inby the last open crosscut and examine the equipment prior to use to ensure that the equipment is in safe operating condition; (2) have a qualified person examine the equipment at intervals not to exceed 7 days and record the examination results in the weekly electrical equipment examination book. The examination will include: (i) Checking the instrument for any physical damage and the integrity of the case; (ii) removing the battery and inspecting for corrosion; (iii) inspecting the contact points to ensure a secure connection to the battery; (iv) reinserting the battery and powering up and shutting down to ensure proper connections: and (v) checking the battery compartment cover to ensure that it is securely fastened. In addition, the operator will also: (1) Have a qualified person continuously monitor for methane immediately before and during the use of non-permissible surveying equipment in or inby the last open crosscut or in the return; (2) eliminate the use of non-permissible surveying equipment if methane is detected in concentrations at or above 1.0 percent; (3) de-energize the equipment immediately and withdraw the equipment further than 150 feet from pillar workings when 1.0 percent or more of methane is detected while the equipment is in use; (4) eliminate the use of non-permissible surveying equipment where float coal dust is in suspension; (5) charge or change batteries contained in the surveying equipment in fresh air out of the return; (6) provide training to qualified personnel who use the surveying equipment to properly recognize the hazards and limitations associated with the use of the equipment; (7) put the non-permissible surveying equipment in service only after MSHA has initially inspected the equipment and determined that it is in compliance with all of the terms and conditions of this petition; and (8) submit proposed revisions for the part 48 training plan to the District Manager, which will include specified initial and refresher training regarding the terms and conditions stated in the Proposed Decision and Order. The petitioner asserts that application of the existing standard would result in a diminution of safety to the miners and the proposed alternative method would at all times guarantee no less than the same measure of protection afforded by the existing standard.

Docket Number: M-2009-002-C.

Petitioner: Rosebud Mining Company, P.O. Box 1025, Northern Cambria, Pennsylvania 15714.

Mines: Clementine Mine, MSHA I.D. No. 36-08862, Darmac No. 2 Mine, MSHA I.D. No. 36-08135, Dutch Run Mine, MSHA I.D. No. 36-08701, Logansport Mine, MSHA I.D. No. 36-08841, Tracy Lynne Mine, MSHA I.D. No. 36-08603, located in Armstrong County, Pennsylvania; Beaver Valley Mine, MSHA I.D. No. 36-08725, located in Beaver County, Pennsylvania; Brush Valley Mine, MSHA I.D. No. 36-09437, Lowry Mine, MSHA I.D. No. 36-09287, Tom's Run Mine, MSHA I.D. No. 36-08525, Heilwood Mine, MSHA I.D. No. 36-09407, located in Indiana County, Pennsylvania; Little Toby Mine, MSHA I.D. No. 36-08847, located in Elk County, Pennsylvania; Mine 78, MSHA I.D. No. 36-09371, located in Somerset County, Pennsylvania; Penfield Mine, MSHA I.D. No. 36-09355, located in Clearfield County, Pennsylvania; and Twin Rocks Mine, MSHA I.D. No. 36-08836, located in Cambria County, Pennsylvania.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways. The petitioner proposes to: (1) Use non-permissible electronic surveying equipment in or inby the last open crosscut and examine the equipment prior to use to ensure that the equipment is in safe operating condition; (2) have a qualified person examine the equipment at intervals not to exceed 7 days and record the examination results in the weekly electrical equipment examination book. The examination will include: (i) Checking the instrument for any physical damage and the integrity of the case; (ii) removing the battery and inspecting for corrosion; (iii) inspecting the contact points to ensure a secure connection to the battery; (iv) reinserting the battery and powering up and shutting down to ensure proper connections: and (v) checking the battery compartment cover to ensure that it is securely fastened. In addition, the operator will also: (1) Have a qualified person continuously monitor for methane immediately before and during the use of non-permissible surveying equipment in or inby the last open crosscut or in the return; (2) eliminate the use of non-permissible surveying equipment if methane is detected in concentrations at or above 1.0 percent; (3) de-energize the equipment immediately and withdraw the equipment further than 150 feet from pillar workings when 1.0 percent or more of methane is detected while the equipment is in use; (4) eliminate the use of non-permissible surveying equipment where float coal dust is in suspension; (5) charge or change batteries contained in the surveying equipment in fresh air out of the return; (6) provide training to qualified personnel who use the surveying equipment to properly recognize the hazards and limitations associated with the use of the equipment; (7) put the non-permissible surveying equipment in service only after MSHA has initially inspected the equipment and determined that it is in compliance with all of the terms and conditions of this petition; and (8) submit proposed revisions for the part 48 training plan to the District Manager, which will include specified initial and refresher training regarding the terms and conditions stated in the Proposed Decision and Order. The petitioner asserts that application of the existing standard would result in a diminution of safety to the miners and the proposed alternative method would at all times guarantee no less than the same measure of protection afforded by the existing standard.

Docket No: M-2009-003.

Petitioner: Rosebud Mining Company, P.O. Box 1025, Northern Cambria, Pennsylvania 15714.

Mines: Clementine Mine, MSHA I.D. No. 36-08862, Darmac No. 2 Mine, MSHA I.D. No. 36-08135, Dutch Run Mine, MSHA I.D. No. 36-08701, Logansport Mine, MSHA I.D. No. 36-08841, Tracy Lynne Mine, MSHA I.D. No. 36-08603, located in Armstrong County, Pennsylvania; Beaver Valley Mine, MSHA I.D. No. 36-08725, located in Beaver County, Pennsylvania; Brush Valley Mine, MSHA I.D. No. 36-09437, Lowry Mine, MSHA I.D. No. 36-09287, Tom's Run Mine, MSHA I.D. No. 36-08525, Heilwood Mine, MSHA I.D. No. 36-09407, located in Indiana County, Pennsylvania; Little Toby Mine, MSHA I.D. No. 36-08847, located in Elk County, Pennsylvania; Mine 78, MSHA I.D. No. 36-09371, located in Somerset County, Pennsylvania; Penfield Mine, MSHA I.D. No. 36-09355, located in Clearfield County, Pennsylvania; and Twin Rocks Mine, MSHA I.D. No. 36-08836, located in Cambria County, Pennsylvania.

Regulation Affected: 30 CFR 75.1002(a) (installation of electric equipment and conductors; permissibility).

Modification Request: The petitioner requests a modification of the existing standard to permit an alternative method of compliance to permit the use of battery-powered non-permissible surveying equipment, including, but not limited to, portable battery operated mine transits, total station surveying equipment, distance meters, and laptop computers within 150 feet of pillar workings. The petitioner proposes to: (1) Use non-permissible electronic surveying equipment in or inby the last open crosscut and examine the equipment prior to use to ensure that the equipment is in safe operating condition; (2) have a qualified person examine the equipment at intervals not to exceed 7 days and record the examination results in the weekly electrical equipment examination book. The examination will include: (i) Checking the instrument for any physical damage and the integrity of the case; (ii) removing the battery and inspecting for corrosion; (iii) inspecting the contact points to ensure a secure connection to the battery; (iv) reinserting the battery and powering up and shutting down to ensure proper connections: and (v) checking the battery compartment cover to ensure that it is securely fastened. In addition, the operator will also: (1) Have a qualified person continuously monitor for methane immediately before and during the use of non-permissible surveying equipment within 150 feet of pillar workings; (2) eliminate the use of non-permissible surveying equipment if methane is detected in concentrations at or above 1.0 percent; (3) de-energize the equipment immediately and withdraw the equipment further than 150 feet from pillar workings when 1.0 percent or more of methane is detected while the equipment is in use; (4) eliminate the use of non-permissible surveying equipment where float coal dust is in suspension; (5) charge or change batteries contained in the surveying equipment in fresh air outby the last open crosscut; (6) provide training to qualified personnel who use the surveying equipment to properly recognize the hazards and limitations associated with the use of the equipment; (7) put the non-permissible surveying equipment in service only after MSHA has initially inspected the equipment and determined that it is in compliance with all of the terms and conditions of this petition; and (8) submit proposed revisions for the part 48 training plan to the District Manager, which will include specified initial and refresher training regarding the terms and conditions stated in the Proposed Decision and Order. The petitioner asserts that application of the existing standard would result in a diminution of safety to the miners and the proposed alternative method would at all times guarantee no less than the same measure of protection afforded by the existing standard.

Patricia W. Silvey,
Director, Office of Standards, Regulations, and Variances.

[FR Doc. E9-9168 Filed 4-21-09; 8:45 am]

BILLING CODE 4510-43-P